DEPARTMENT OF ENERGY

Federal Energy Regulatory Commission

[Docket No. EL01-51-005, et al.]

The Detroit Edison Company, et al.; Electric Rate and Corporate Regulation Filings

July 11, 2002.

The following filings have been made with the Commission. The filings are listed in ascending order within each docket classification.

1. The Detroit Edison Company

[Docket Nos. EL01-51-005 and ER01-1649-005]

Take notice that on July 3, 2002, The Detroit Edison Company tendered for filing with the Federal Energy Regulatory Commission (Commission), a compliance filing in accordance with the Commission's order in Detroit Edison Company, 99 FERC ¶ 61,268 (2002).

Comment Date: July 24, 2002.

2. State of California, ex. rel. Bill Lockyer, Complainant, v. British Columbia Power Exchange Corp., Coral Power, LLC, Dynegy Power Marketing, Inc., Enron Power Marketing, Inc., Mirant Americas Energy Marketing, LP, Reliant Energy Services, Inc., Williams Energy Marketing & Trading Co., All Other Public Utility Sellers of Energy and Ancillary Services to the California Energy Resources Scheduling Division of the California Department of Water Resources, and All Other Public Utility Sellers of Energy and Ancillary Services into Markets Operated by the California Power Exchange and California Independent System Operator, Respondents

[Docket No. EL02-71-002]

Take notice that on July 8, 2002, PacifiCorp tendered for filing its report showing PacifiCorp's purchases from the California Independent Service Operator (CAISO), California Power Exchange (PX) and California Energy Resources Scheduling Division of the California Department of Water Resources (CDWR) markets for the quarters ending December 31, 2000; March 31, 2001; June 30, 2001; September 30, 2001; December 31, 2001 and March 31, 2002.

Copies of this filing were supplied to the Washington Utilities and Transportation Commission and the Public Utility Commission of Oregon.

Comment Date: July 29, 2002.

3. State of California, ex. rel. Bill Lockyer, Complainant, v. British Columbia Power Exchange Corp., Coral Power, LLC, Dynegy Power Marketing, Inc., Enron Power Marketing, Inc., Mirant Americas Energy Marketing, LP, Reliant Energy Services, Inc., Williams Energy Marketing & Trading Co., All Other Public Utility Sellers of Energy and Ancillary Services to the California Energy Resources Scheduling Division of the California Department of Water Resources, and All Other Public Utility Sellers of Energy and Ancillary Services into Markets Operated by the California Power Exchange and California Independent System Operator, Respondents

[Docket No. EL02-71-002]

Take notice that on July 5, 2002, IDACORP Energy L.P. (IDACORP Energy) tendered for filing with the Federal Energy Regulatory Commission (Commission), a supplement report to its June 28, 2002 submittal for Fourth Quarter, 2000 through Fourth Quarter 2001.

Comment Date: July 26, 2002

4. State of California, ex. rel. Bill Lockyer, Complainant, v. British Columbia Power Exchange Corp., Coral Power, LLC, Dynegy Power Marketing, Inc., Enron Power Marketing, Inc., Mirant Americas Energy Marketing, LP, Reliant Energy Services, Inc., Williams Energy Marketing & Trading Co., All Other Public Utility Sellers of Energy and Ancillary Services to the California Energy Resources Scheduling Division of the California Department of Water Resources, and All Other Public Utility Sellers of Energy and Ancillary Services into Markets Operated by the California Power Exchange and California Independent System Operator, Respondents

[Docket No. EL02-71-002]

Take notice that on July 5, 2002, Strategic Energy L.L.C. tendered for filing with the Federal Energy Regulatory Commission (Commission), new Quarterly Transaction Reports showing non-aggregated data for transactions made during the period October 2, 2000 to the date of the Commission's order issued in this proceeding.

Comment Date: July 26, 2002.

5. UBS AG

[Docket Nos. EL02-105-000 and EC02-91-000]

Take notice that on July 1, 2002, UBS AG (UBS) filed with the Federal Energy Regulatory Commission (Commission) an application requesting that the Commission disclaim jurisdiction over certain acquisitions by UBS in the course of its banking business of securities issued by public utilities. In the alternative, UBS seeks authorization pursuant to Section 203 of the Federal Power Act for such acquisitions

Comment Date: July 22, 2002.

6. PJM Interconnection, L.L.C.

[Docket No. EL02-106-000]

Take notice that on July 1, 2002, PJM Interconnection, L.L.C. (PJM), pursuant to Section 206 of the Federal Power Act, submitted amendments to the Transmission Owners Agreement specifying that license plate rates will remain in effect until December 31, 2004 in the PJM control area.

Copies of this filing have been served upon all PJM members, and the state electric utility commissions in the PJM region.

Comment Date: July 22, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket#” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-18215 Filed 7-18-02; 8:45 am]

BILLING CODE 6717-01-P